DEPARTMENT OF AGRICULTURE

Forest Service

Information Collection: Infrastructure Investment and Jobs Act Financial Assistance to Facilities That Purchase and Process Byproducts for Ecosystem Restoration (CFDA 10.725) Wood Products Infrastructure Assistance (WPIA)

AGENCY: Forest Service, Agriculture (USDA).

ACTION: Notice; request for comment.

SUMMARY: In accordance with the Paperwork Reduction Act of 1995, the Forest Service is seeking comments from all interested individuals and organizations on the extension with no revision of a currently approved information collection, Infrastructure Investment and Jobs Act Financial Assistance to Facilities that Purchase and Process Byproducts for Ecosystem Restoration (CFDA 10.725) Wood Products Infrastructure Assistance (WPIA).

DATES: Comments must be received in writing on or before February 21, 2023 to be assured of consideration. Comments received after that date will be considered to the extent practicable.

ADDRESSES: Comments concerning this notice should be addressed to the contact listed under FOR FURTHER INFORMATION CONTACT.

Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may inspect the draft supporting statement and/or comments received at Superior National Forest Supervisor's Office, 8901 Grand Ave. Place, Duluth, MN 55808 during normal business hours. Visitors are encouraged to call ahead to 218-626-4300 to facilitate entry to the building. The public may request an electronic copy of the draft supporting statement and/or any comments received be sent via return email. Requests should be emailed to the contact listed under FOR FURTHER INFORMATION CONTACT.

FOR FURTHER INFORMATION CONTACT: Brian Brashaw, Cooperative Forestry, Wood Innovations, 608-334-5819. Individuals who use telecommunication devices for the deaf (TDD) may call the Federal Information Relay Service (FIRS) at 800-877-8339 twenty-four hours a day, every day of the year, including holidays.

SUPPLEMENTARY INFORMATION:

Title: Infrastructure Investment and Jobs Act Financial Assistance to Facilities that Purchase and Process Byproducts for Ecosystem Restoration (CFDA 10.725) Wood Products Infrastructure Assistance (WPIA).

OMB Number: 0596-0254.

Expiration Date of Approval: 05/31/2023.

Type of Request: Extension with no revision of a currently approved information collection.

Abstract: The grants and agreements awarded under this announcement will support the Bipartisan Infrastructure Law (BIL), 2021. Section 40804(b)3 directs the USDA Forest Service Forest Service to provide financial assistance to an entity seeking to establish, reopen, expand, or improve a sawmill or other wood processing facility in close proximity to a unit of federal or Indian land that has been identified as high or very high priority for ecological restoration. Eligible applicants are for-profit entities; state, local governments; Indian Tribes; school districts; community, not-for-profit organizations; institutions of higher education; and special purpose districts (e.g., public utilities districts, fire districts, conservation districts, and ports). The need and process to collect information from applicants is detailed in 2 CFR part 200 and Forest Service Handbook 1509.11, Chapter 20, which prescribes administrative requirements and processes applicable to all Forest Service domestic Federal Financial Assistance awards. In particular, collection of information is necessary to assist in accelerating the pace and scale of ecosystem restoration on federal and Indian lands. Information collected will be reviewed by Forest Service staff to evaluate eligibility and proposed activities of the applicant.

Affected Public: Individuals and Households, the Private Sector (Businesses and Non-Profit Organizations, and/or State, Local or Tribal Government.

Estimate of Burden per Response: 8.25 hours.

Estimated Annual Number of Respondents: 78.

Estimated Annual Number of Responses per Respondent: 1.

Estimated Total Annual Burden on Respondents: 643.50 hours.

Comment is Invited: Comment is invited on: (1) whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Jaelith Hall-Rivera,
Deputy Chief, State & Private Forestry.

[FR Doc. 2022-27845 Filed 12-21-22; 8:45 am]

BILLING CODE 3411-15-P